DEPARTMENT OF JUSTICE

[OMB Number 1105-NEW]

Agency Information Collection Activities; Proposed eCollection eComments Requested; National Elder Abuse Victim Services Needs Assessment

AGENCY: Elder Justice Initiative, Department of Justice.

ACTION: 30-Day notice.

SUMMARY: The Department of Justice (DOJ), Elder Justice Initiative, will be submitting the following information collection request to the Office of Management and Budget (OMB) for review and approval in accordance with the Paperwork Reduction Act of 1995. This proposed information collection was previously published in the Federal Register on October 6, 2022, allowing for a 60-day comment period. No comments were received in response to that notice.

DATES: Comments are encouraged and will be accepted for an additional 30 days until March 13, 2023.

FOR FURTHER INFORMATION CONTACT: If you have additional comments, especially on the estimated public burden or associated response time, suggestions, or need a copy of the proposed information collection instrument with instructions or additional information, please contact Andy Mao, National Elder Justice Coordinator, Elder Justice Initiative, 175 N Street NE, Washington, DC 20002 (phone: 202/616-0539). Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: New data collection.

2. The Title of the Form/Collection: National Elder Abuse Victim Services Needs Assessment [Form # ]

3. The agency form number:

4. Affected public who will be asked or required to respond, as well as a brief abstract: This information will be solicited from victims of elder abuse, elder justice professionals (e.g., adult protective services, law enforcement, victim services organizations, etc.) who serve those older victims, representatives of federal agencies with elder justice programming, and family and friends who are oftentimes instrumental in victims' recovery and have a unique window into the needs of older victims.

Abstract. The Elder Justice Initiative proposes to conduct the first National Elder Abuse Victim Services Needs Assessment, a one-time information collection. The goal of this information collection is to gain insight into how to best meet the service needs of older victims of elder abuse from the initial incident to investigation and prosecution (if any), through to long-term recovery, and separately for each type of elder abuse (physical abuse, psychological abuse, sexual abuse, caregiver neglect, financial exploitation, financial fraud). To accomplish this goal, the Elder Justice Initiative will: (1) conduct national surveys with elder justice professionals and federal staff, and older victims and their family and friends; and (2) conduct a series of focus groups with elder justice professionals and federal staff, and older victims and their family and friends. A targeted dissemination strategy featuring results and recommendations will aid in elder abuse services program planning.

5. An estimate of the total number of respondents and the amount of time estimated for an average respondent to respond:

There are four separate but related information collections: An estimated 1000 elder justice professionals and federal staff with elder justice programming will complete an electronic survey estimated to take 20 minutes to complete per respondent, and an estimated 1500 older victims, their family and friends will complete an electronic survey estimated to take 10 minutes to complete per respondent. Fifteen 90-minute focus groups with elder justice professionals and federal staff, and 15 90-minute focus groups with older victims, their family and friends will consist of not more than 10 participants per focus group, for a total of 300 focus group participants. In total, 2800 individuals will participate in the National Elder Abuse Victim Services Needs Assessment.

6. An estimate of the total public burden (in hours) associated with the collection: 1033 annual burden hours (see Table 1 for calculation).

Table 1—Estimates of Hour Burden Including Annualized Hourly Costs
Task | Estimated time (minutes) | Total participants | Total minutes per task
Surveys of elder justice professionals and federal staff | 20 | 1,000 | 20,000.
Surveys of older victims and their family and friends | 10 | 1,500 | 15,000.
Focus Groups (elder justice professionals and federal staff; older victims, family and friends | 90 | 300 | 27,000.
Total |  |  | 62,000 (1,033 hrs).

If additional information is required contact: John R. Carlson, Department Clearance Officer, United States Department of Justice, Justice Management Division, Policy and Planning Staff, Two Constitution Square, 145 N Street NE, 4W-218, Washington, DC 20530.

Dated: February 3, 2023.
John R. Carlson,
Department Clearance Officer for PRA, U.S. Department of Justice.

[FR Doc. 2023-02726 Filed 2-8-23; 8:45 am]

BILLING CODE 4410-12-P